DEPARTMENT OF THE INTERIOR

Bureau of Land Management

[LLCO922000-L13100000-FI0000-20X]

Notice of Proposed Reinstatement of Terminated Oil and Gas Lease COC77272, Colorado

AGENCY: Bureau of Land Management, Interior.

ACTION: Notice of reinstatement.

SUMMARY: As authorized in the Mineral Leasing Act of 1920, as amended, the Bureau of Land Management (BLM) received a petition for reinstatement of competitive oil and gas lease COC77272 from Caerus Washco, LLC, for lands in Weld County, Colorado. The lessee filed the petition on time, along with all rentals due since the lease terminated. No leases affecting these lands were issued prior to receiving the petition. The BLM proposes to reinstate the lease.

FOR FURTHER INFORMATION CONTACT: Peter Cowan, Acting Branch Chief, Fluid Minerals, Bureau of Land Management Colorado State Office, 2850 Youngfield Street, Lakewood, CO 80215, (303) 239-3939, picowan@blm.gov. Persons who use a telecommunications device for the deaf (TDD) may call the Federal Relay Service (FRS) at 1-800-877-8339 to contact Mr. Cowan during normal business hours. The FRS is available 24 hours a day, 7 days a week, to leave a message or questions. You will receive a reply during normal business hours.

SUPPLEMENTARY INFORMATION: The lessee requested reinstatement after the lease automatically terminated for untimely payment of rent. The lessee agrees to the new lease terms for rentals and royalties of $10 per acre, or fraction thereof, per year, and 16 ⅔ percent, respectively. The lessees paid the required $500 administrative fee for lease reinstatement and the $151 cost of publishing this notice. The lessee met the requirements for reinstatement of the lease per Sec. 31(d) and (e) of the Mineral Leasing Act of 1920 (30 U.S.C. 188). The BLM considered the impacts of reinstatement of the lease in a Determination of NEPA Adequacy DOI-BLM-CO-F020-2019-0068-DN. The BLM proposes to reinstate the lease effective January 1, 2018, under the original terms and the increased rental and royalty rates described above.

(Authority: 30 U.S.C. 188 (e)(4) and 43 CFR 3108.2-3 (b)(2)(v))

Jamie E. Connell,
BLM Colorado State Director.

[FR Doc. 2020-08572 Filed 4-22-20; 8:45 am]

BILLING CODE 4310-JB-P